ENVIRONMENTAL PROTECTION AGENCY

[OAR-2004-0092; FRL-7940-7]

Agency Information Collection Activities; Submission to OMB for Review and Approval; Comment Request; Motor Vehicle Emission and Fuel Economy Compliance: Light Duty Vehicles, Light Duty Trucks, and Highway Motorcycles (Renewal); EPA ICR Number 0783.47, OMB Control Number 2060-0104

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on July 31, 2005. Under OMB regulations, the Agency may continue to conduct or sponsor the collection of information while this submission is pending at OMB. This ICR describes the nature of the information collection and its estimated burden and cost.

DATES: Additional comments may be submitted on or before August 19, 2005.

ADDRESSES: Submit your comments, referencing docket ID number OAR-2004-0092, to (1) EPA online using EDOCKET (our preferred method), by e-mail to a-and-r-docket@epa.gov, or by mail to: Environmental Protection Agency, EPA Docket Center (EPA/DC), Air and Radiation Docket and Information Center, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Lynn Sohacki, Certification and Compliance Division, Vehicle Programs Group, Environmental Protection Agency, 2000 Traverwood, Ann Arbor, MI 48105; telephone number: (734) 214-4851; fax number: (734) 214-4869; email address: sohacki.lynn@epa.gov.

SUPPLEMENTARY INFORMATION: EPA has submitted the following ICR to OMB for review and approval according to the procedures prescribed in 5 CFR 1320.12. On August 13, 2004 (69 FR 50189), EPA sought comments on this ICR pursuant to 5 CFR 1320.8(d). EPA received no comments.

EPA has established a public docket for this ICR under Docket ID No. OAR-2004-0092, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Motor Vehicle Emission and Fuel Economy Compliance: Light Duty Vehicles, Light Duty Trucks, and Highway Motorcycles (Renewal).

Abstract: Under the Clean Air Act (42 U.S.C. 7521 et seq.) manufacturers and importers of light duty vehicles (passenger cars), light trucks, and motorcycles must have a certificate of conformity issued by EPA covering any vehicle they intend to offer for sale. In addition, light duty vehicles and light truck manufacturers and importers must also submit fuel economy information and reports required by the Energy Policy and Conservation Act (49 U.S.C. 32901 et seq.). EPA reviews vehicle information and test data to determine if the vehicle design conforms to applicable requirements and to verify that the required testing has been performed. After a certificate of conformity has been issued, subsequent audit and enforcement actions may be taken based on the initial information submitted as well as on information submitted while the vehicles are in service. Until a vehicle is available for purchase, information is confidential. Some proprietary information is permanently confidential.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 4,656 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are passenger car, light truck, and motorcycle vehicle manufacturers and importers.

Estimated Number of Respondents: 139.

Frequency of Response: Annually and Quarterly.

Estimated Total Annual Hour Burden: 647,176.

Estimated Total Annual Cost: $47,459,648, which includes $3,060,000 annualized O&M costs, $8,275,000 annualized capital/startup costs, and $36,124,648 annual labor costs.

Changes in the Estimates: There is an increase of 105,058 hours in the total estimated burden currently identified in the OMB Inventory of Approved ICR Burdens. This increase is an adjustment of the prior estimate primarily reflecting an increase in the number of light duty test groups along with a more detailed analysis of the labor burdens associated with a more comprehensive accounting of tests and reports.

Dated: July 12, 2005.
Oscar Morales,
Director, Collection Strategies Division.

[FR Doc. 05-14281 Filed 7-19-05; 8:45 am]

BILLING CODE 6560-50-P